INTERNATIONAL TRADE COMMISSION

[Inv. No. 337-TA-493]

In the Matter of Certain Zero-Mercury-Added Alkaline Batteries, Parts Thereof, and Products Containing Same; Notice of Investigation

AGENCY: International Trade Commission.

ACTION: Institution of investigation pursuant to 19 U.S.C. 1337.

SUMMARY: Notice is hereby given that a complaint was filed with the U.S. International Trade Commission on April 28, 2003, under section 337 of the Tariff Act of 1930, as amended, 19 U.S.C. 1337, on behalf of Energizer Holdings, Inc. and Eveready Battery Company, Inc., both of St. Louis, Missouri. Letters supplementing the complaint were filed on May 1, 9, and 20, 2003. The complaint as supplemented alleges violations of section 337 in the importation into the United States, the sale for importation, and the sale within the United States after importation of certain zero-mercury-added alkaline batteries, parts thereof, and products containing same by reason of infringement of claims 1-12 of U.S. Patent No. 5,464,709. The complaint further alleges that an industry in the United States exists as required by subsection (a)(2) of section 337.

The complainants request that the Commission institute an investigation and, after the investigation, issue a permanent general exclusion order and permanent cease and desist orders.

ADDRESSES: The complaint and supplements, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may be obtained by accessing its Internet server (http://www.usitc.gov). The public record for this investigation may be viewed on the Commission's electronic docket (EDIS) at http://edis.usitc.gov.

FOR FURTHER INFORMATION CONTACT: Benjamin D. M. Wood, Esq., Office of Unfair Import Investigations, U.S. International Trade Commission, telephone 202-205-2582.

Authority: The authority for institution of this investigation is contained in section 337 of the Tariff Act of 1930, as amended, and in section 210.10 of the Commission's Rules of Practice and Procedure, 19 CFR 210.10 (2002).

Scope of Investigation: Having considered the complaint, the U.S. International Trade Commission, on May 27, 2003, ordered that—pursuant to subsection (b) of section 337 of the Tariff Act of 1930, as amended, an investigation be instituted to determine whether there is a violation of subsection (a)(1)(B) of section 337 in the importation into the United States, the sale for importation, or the sale within the United States after importation of certain zero-mercury-added alkaline batteries, parts thereof, or products containing same by reason of infringement of one or more of claims 1-12 of U.S. Patent No. 5,464,709, and whether an industry in the United States exists as required by subsection (a)(2) of section 337.

(2) For the purpose of the investigation so instituted, the following are hereby named as parties upon which this notice of investigation shall be served: (a) The complainants are—

Energizer Holdings, Inc., 533 Maryville University Drive, St. Louis, Missouri 63141, Eveready Battery Company, Inc., 533 Maryville University Drive, St. Louis, Missouri 63141

(b) The respondents are the following companies alleged to be in violation of section 337, and are the parties upon which the complaint is to be served:

Atico International U.S.A., Inc., 501 South Andrews Avenue, P.O. Box 14368, Fort Lauderdale, Florida 33302,

Sichuan Changhong Electric Company, Ltd., 35 East Mianxing Road, Hightech Park, Mianyang, Sichuan 621000, China

Changhong Battery Company, 35 East Mianxing Road, Hightech Park, Mianyang, Sichuan 621000, China

Chung Pak Battery Works, 7/f Chung Pak Comm Building, 2 Cho Uyen Street, Yau Tong, Kowloon, Hong Kong

Dorcy International, Inc., 2700 Port Road, Columbus, Ohio 43217-1136

FDK Corporation, Hamagomu Building, 5-36-11, Shinbashi, Minato-Ku, Tokyo 105-8677 Japan

FDK Energy Co., Ltd., 614 Washizu, Kosai-Shi, Shizuoka-ken 431-0431 Japan

Fujian Nanping Nanfu Battery Co., Ltd., 109 Industry Road, Nanping, Fujian 353000, China

Golden Million Enterprises, Inc., 1201 Broadway, Suite 601, New York, New York 10001

Golden Power Industries, Ltd., Flat C, 20/F, Block 1, Tai Ping Industrial Centre 57 Ting Kok Road, Tai Po, N.T., Hong Kong

Gold Peak Industries, Ltd., 8/F, Gold Peak Building, 30 Kwai Wing Road, Kwai Chung N.T., Hong Kong

GP Industries Limited, 97 Pioneer Road, Singapore 639579

GP Batteries International, Ltd., 50 Gul Crescent, 629543, Singapore

Gold Peak Industries (North America), Inc., 11235 West Bernardo Court, San Diego, California 92127-1638

Guangdong Chaoan Zhenglong Enterprise Co., Ltd, Huaqiao Industrial Zone, Caitang Chaozhou City, Guangdong 515644, China

Guangzhou Tiger Head Battery, Group Co., Ltd., 568 Huangpu Street Middle Section, Guangzhou 510655, China,

Hi-Watt Battery Industry Company, Ltd., 21 Tung Yuen Street, Yau Tong Bay, Kowloon, Hong Kong

Maxell Corporation of America, 22-08 Route 208, Fair Lawn, New Jersey 07410

Monster Cable Products, Inc., 455 Valley Drive, Brisbane, California 94005

Ningbo Baowang Battery Co., Ltd., No. 66 Keji Road, Science Technological Industry Zone Ninghai, Ningbo 315600, China

PT International Chemical Industrial Co., Ltd., Jl. Daan Mogot Km. 9, Cengkareng, Jakarta 11470, Indonesia

The Mazel Company d/b/a The Powerhouse Group, 31000 Aurora Road, Solon, Ohio 44139

Universal Battery Corporation, 4300 Wiley Post Road, Addison, Texas 75001, Winner International, L.L.C., 32 West State Street, Sharon, Pennsylvania 16146

Zhejiang 3-Turn Battery Co., Ltd., Huailu Industrial Park of Dongyang, Zhejiang 322104, China

Zhongyin Ningbo Battery Co., Ltd., No. 99, Dahetou St. Duantang, Ningbo Zhejiang, 315011, China

(c) Benjamin D.M. Wood, Esq., Office of Unfair Import Investigations, U.S. International Trade Commission, 500 E Street, S.W., Suite 401, Washington, D.C. 20436, who shall be the Commission investigative attorney, party to this investigation; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received no later than 20 days after the date of service by the Commission of the complaint and the notice of investigation. Extensions of time for submitting responses to the complaint will not be granted unless good cause therefor is shown.

Failure of a respondent to file a timely response to each allegation in the complaint and in this notice may be deemed to constitute a waiver of the right to appear and contest the allegations of the complaint and to authorize the administrative law judge and the Commission, without further notice to that respondent, to find the facts to be as alleged in the complaint and this notice and to enter both an initial determination and a final determination containing such findings, and may result in the issuance of a limited exclusion order or a cease and desist order or both directed against that respondent.

Issued: May 27, 2003.
By order of the Commission.
Marilyn R. Abbott,
Secretary to the Commission.

[FR Doc. 03-13687 Filed 5-30-03; 8:45 am]

BILLING CODE 7020-02-P